DEPARTMENT OF ENERGY

Federal Energy Regulatory Commission

[Project No. 12597-017]

Turnbull Hydro, LLC; Notice of Application for Amendment of License and Soliciting Comments, Motions To Intervene, and Protests

October 30, 2008.

Take notice that the following application has been filed with the Commission and is available for public inspection:

a. Application Type: Non-Capacity Amendment of License.

b. Project No.: 12597-017.

c. Date Filed: September 26, 2008.

d. Applicant: Turnbull Hydro, LLC.

e. Name of Project: Lower Turnbull Drop Project.

f. Location: The project is located on the Spring Valley Canal in Teton County, Montana.

g. Filed Pursuant to: Federal Power Act, 16 U.S.C. 791a-825r.

h. Applicant Contact: Ted Sorenson, 5203 South 11th East, Idaho Falls, Idaho 83404 (208) 522-8069.

i. FERC Contact: Any questions on this notice should be addressed to Mr. Steven Sachs at (202) 502-8666.

j. Deadline for filing comments and or motions: December 1, 2008.

Please include the project number (P-12597) on any comments or motions filed. All documents (an original and eight copies) must be filed with: Kimberly D. Bose, Secretary, Federal Energy Regulatory Commission, 888 First Street, NE., Washington, DC 20426.

Motions to intervene, protests, comments and recommendations may be filed electronically via the Internet in lieu of paper filings, see 18 CFR 385.2001(a)(1)(iii) and the instructions on the Commission's Web site (http://www.ferc.gov) under the “e-filing” link. The Commission strongly encourages electronic filings.

The Commission's Rules of Practice and Procedure require all interveners filing documents with the Commission to serve a copy of that document on each person whose name appears on the official service list for the project. Further, if an intervener files comments or documents with the Commission relating to the merits of an issue that may affect the responsibilities of a particular resource agency, they must also serve a copy of the document on that resource agency. A copy of any motion to intervene must also be served upon each representative of the Applicant specified in the particular application.

k. Description of Request: Turnbull Hydro, LLC proposes to change the authorized installed capacity from 5,000 kW to 6,150 kW. The licensee states the original license application included a capacity of 6,150 kW but subsequent notices, the environmental assessment, and the license use 5,000 kW as the capacity which the licensee states was an oversight. At this time, the licensee wishes to operate the project at the original capacity in order to improve its economic feasibility.

l. Location of the Application: A copy of the licensee's filing is available for inspection and reproduction at the Commission's Public Reference Room, located at 888 First Street, NE., Room 2A, Washington, DC 20426, or by calling (202) 502-8371. This filing may also be viewed on the Commission's Web site at http://ferc.gov using the “eLibrary” link. Enter the docket number excluding the last three digits in the docket number field to access the document. You may also register online at http://www.ferc.gov/docsfiling/esubscription.asp to be notified via e-mail of new filings and issuances related to this or other pending projects. For assistance, call toll-free at 1-866-208-3372 or e-mail ferconlinesupport@ferc.gov, or for TTY, call (202) 502-8659. A copy is also available for inspection and reproduction at the address listed in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, 385.211, and 385.214. In determining the appropriate action to take, the Commission will consider all protests or other comments filed, but only those who file a motion to intervene in accordance with the Commission's Rules may become a party to the proceeding. Any comments, protests, or motions to intervene must be received on or before the specified comment date for the particular application (see item (j) above).

o. Any filing must bear in all capital letters the title “COMMENTS”, “PROTEST”, “MOTION TO INTERVENE”, or “RECOMMENDATIONS”, as applicable, and the Project Number of the particular application to which the filing refers.

p. Agency Comments: Federal, State, and local agencies are invited to file comments on the described application. A copy of the application may be obtained by agencies directly from the Applicant. If an agency does not file comments within the time specified for filing comments, it will be presumed to have no comments. One copy of an agency's comments must also be sent to the Applicant's representatives.

Kimberly D. Bose,
Secretary.

[FR Doc. E8-26451 Filed 11-5-08; 8:45 am]

BILLING CODE 6717-01-P